DEPARTMENT OF TRANSPORTATION

Federal Aviation Administration

Approval of Noise Compatibility Program 14 CFR Part 150; Detroit Metropolitan Wayne County Airport, Detroit, MI

AGENCY: Federal Aviation Administration, DOT.

ACTION: Notice.

SUMMARY: The Federal Aviation Administration (FAA) announces its findings on the noise compatibility program (NCP) submitted by Wayne County Airport Authority under the provisions of 49 U.S.C. (the Aviation Safety and Noise Abatement Act, hereinafter referred to as “the Act”) and 14 CFR part 150. These findings are made in recognition of the description of Federal and nonfederal responsibilities in Senate Report No. 96-52 (1980). The Detroit Metropolitan Wayne County Airport noise exposure maps were determined by FAA to be in compliance with applicable requirements on March 7, 2006. Notice of this determination was published in the Federal Register on March 21, 2006, Federal Register volume 71, number 54, page 14282.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

a. The noise compatibility program was developed in accordance with the provisions and procedures of FAR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

The submitted program contained twenty proposed actions for noise mitigation on and off the airport, as applicable. The FAA completed its review and determined that the procedural and substantive requirements of the Act and FAR part 150 have been satisfied.

On June 1, 2009, the FAA approved the Detroit Metropolitan Wayne County Airport noise compatibility program. Fourteen of the twenty recommendations of the program were approved. Three recommendations are related to revised flight procedures for noise abatement and require no action at this time. Three recommendations were disapproved at this time.

Specific limitations with respect to FAA's approval of an airport noise compatibility program are delineated in FAR part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Detroit Airports District Office.

These determinations are set forth in detail in a Record of Approval signed by Deb Roth on June 1, 2009. The Record of Approval, as well as other evaluation materials and the documents comprising the submittal, are available for review at the FAA office listed above and at the administrative offices of the Detroit Metropolitan Wayne County Airport. The Record of Approval also will be available on-line at http://www.faa.gov/airports_airtraffic/airports/environmental/airport_noise/part_150/states/.

DATES: Effective Date: The effective date of the FAA's approval of the Detroit Metropolitan Wayne County Airport noise compatibility program is June 1, 2009.

FOR FURTHER INFORMATION CONTACT: Mr. Ernest Gubry, Detroit Airports District Office, 11677 South Wayne Road, Suite 107, Romulus, Michigan 48174, 734-229-2905. Documents reflecting this FAA action may be reviewed at this same location.

Dated: June 2, 2009.
Issued in Romulus, Michigan.
Matthew J. Thys,
Manager, Detroit Airports District Office, Great Lakes Region.

[FR Doc. E9-14986 Filed 6-24-09; 8:45 am]

BILLING CODE 4910-13-P